DEPARTMENT OF ENERGY

Federal Energy Regulatory Commission

[Project No. 8436-153]

Eugene Water & Electric Board; Smith Creek Hydro, LLC; Notice of Application for Transfer of License and Soliciting Comments, Motions To Intervene, and Protests

On January 20, 2016, Eugene Water & Electric Board (transferor) and Smith Creek Hydro, LLC (transferee) filed an application for transfer of license of the Smith Creek Project No. 8436. The project is located on the Smith Creek in Boundary County, Idaho. The project occupies lands of the United States within the Panhandle National Forest.

The applicants seek Commission approval to transfer the license for the Smith Creek Project from the transferor to the transferee.

Applicant Contact: For transferor: Ms. Patty Boyle, Principal Project Manager, Eugene Water & Electric Board, P.O. Box 10148, Eugene, OR 97440-2148, telephone: 541-685-7406, email: patty.boyle@eweb.org and Mr. Tom Grim, Cable Huston LLP, 1001 SW Fifth Ave., Suite 2000, Portland, OR 97204, telephone: 503-224-3092, email: tgrim@cablehuston.com. For transferee: Mr. Thom A. Fischer, Manager, Smith Creek Hydro, LLC, 1800 James Street, Suite 201, Bellingham, WA 98225, telephone: 360-738-9999, email: thom@tollhouseenergy.com and Mr. Todd G. Glass and Mr. Keene M. O'Connor, Wilson Sonsini Goodrich & Rosati, PC, 701 5th Avenue, Suite 5100, Seattle, WA 98104, telephone: 206-883-2500, email: tglass@wsgr.com and kmoconnor@wsgr.com.

FERC Contact: Patricia W. Gillis, (202) 502-8735, patricia.gillis@ferc.gov.

Deadline for filing comments, motions to intervene, and protests: 30 days from the date that the Commission issues this notice. The Commission strongly encourages electronic filing. Please file comments, motions to intervene, and protests using the Commission's eFiling system at http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov, (866) 208-3676 (toll free), or (202) 502-8659 (TTY). In lieu of electronic filing, please send a paper copy to: Secretary, Federal Energy Regulatory Commission, 888 First Street NE., Washington, DC 20426. The first page of any filing should include docket number P-8436-153.

Dated: March 17, 2016.
Nathaniel J. Davis, Sr.
Deputy Secretary.

[FR Doc. 2016-06505 Filed 3-22-16; 8:45 am]

BILLING CODE 6717-01-P